INTERNATIONAL TRADE COMMISSION

[Investigation No. 337-TA-1347]

Certain Location-Sharing Systems, Related Software, Components Thereof, and Products Containing Same; Notice of Commission Determination Not To Review an Initial Determination Granting Complainants' Unopposed Motion To Amend the Complaint and Notice of Investigation

AGENCY: U.S. International Trade Commission.

ACTION: Notice.

SUMMARY: Notice is hereby given that the U.S. International Trade Commission has determined not to review an initial determination (“ID”) (Order No. 7) of the presiding administrative law judge (“ALJ”) granting complainants' unopposed motion to amend the complaint and notice of investigation in the above-captioned investigation to substitute Panasonic Holdings Corporation in place of named respondent Panasonic Corporation.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on December 30, 2022, based on a complaint filed by Advanced Ground Information Systems, Inc. of Jupiter, Florida and AGIS Software Development LLC of Marshall, Texas (collectively, “AGIS”). 87 FR 80568-69 (Dec. 30, 2022). The complaint, as supplemented, alleges violations of section 337 of the Tariff Act of 1930, as amended, 19 U.S.C. 1337, based on the importation into the United States, the sale for importation, and the sale within the United States after importation of certain location-sharing systems, related software, components thereof, and products containing same by reason of the infringement of certain claims of U.S. Patent Nos. 8,213,970; 9,467,838; 9,445,251; 9,749,829; and 9,820,123. Id. at 80568. The complaint further alleges that a domestic industry exists. Id.

The notice of investigation named 26 respondents: Google LLC of Mountain View, California; Samsung Electronics, Co., Ltd. of Suwon, Republic of Korea; Samsung Electronics America, Inc. of Ridgefield Park, New Jersey; OnePlus Technology (Shenzhen) Co., Ltd. of Shenzhen, Guangdong, China; TCL Technology Group Corporation of Huizhou, Guangdong, China; TCL Electronics Holdings Limited of Hong Kong Science Park, Hong Kong; TCL Communication Technology Holdings Limited of Hong Kong Science Park, Hong Kong; TCT Mobile (US) Inc. of Irvine, California; Lenovo Group Ltd. of Beijing, China; Lenovo (United States) Inc. of Morrisville, North Carolina; Motorola Mobility LLC of Chicago, Illinois; HMD Global of Espoo, Finland; HMD Global OY of Espoo, Finland; HMD America, Inc. of Miami, Florida; Sony Corporation of Tokyo, Japan; Sony Mobile Communications, Inc. of Tokyo, Japan; ASUSTek Computer Inc. of Taipei, Taiwan; ASUS Computer International of Fremont, California; BLU Products of Doral, Florida; Panasonic Corporation of Osaka, Japan; Panasonic Corporation of North America of Secaucus, New Jersey; Kyocera Corporation of Kyoto, Japan; Xiaomi Corporation of Grand Cayman, Cayman Islands; Xiaomi H.K. Ltd. of Kowloon City, Hong Kong; Xiaomi Communications Co., Ltd. of Beijing, China; and Xiaomi Inc. of Beijing, China. Id. at 80569. The Office of Unfair Import Investigations (“OUII”) is also named as a party. Id.

On January 27, 2023, AGIS filed a motion to amend the complaint and notice of investigation to substitute Panasonic Holdings Corporation for the presently named respondent Panasonic Corporation. The motion states that (i) OUII and respondents Panasonic Corporation, Panasonic Corporation of North America, and Kyocera Corporation do not oppose the motion and (ii) the remaining respondents take no position on the motion. Mot. at 1. No responses to the motion were filed.

On February 1, 2023, the ALJ issued the subject ID granting the motion. The ID finds that, in accordance with Commission Rule 210.14(b) (19 CFR 210.14(b)), “good cause exists for amending the complaint to substitute Panasonic Holdings Corporation in place of named Respondent Panasonic Corporation” because “amending the Complaint and Notice of Investigation to reflect the proper name of the Respondent will aid in the development of the Investigation and is necessary to avoid prejudicing the public interest and rights of the parties to the Investigation.” ID at 2. No petitions for review of the subject ID were filed.

The Commission has determined not to review the subject ID. The complaint and notice of investigation are amended to substitute Panasonic Holdings Corporation in place of the named respondent Panasonic Corporation.

The Commission vote for this determination took place on February 17, 2023.

The authority for the Commission's determination is contained in section 337 of the Tariff Act of 1930, as amended (19 U.S.C. 1337), and in Part 210 of the Commission's Rules of Practice and Procedure (19 CFR part 210).

By order of the Commission.
Issued: February 17, 2023.
Lisa Barton,
Secretary to the Commission.

[FR Doc. 2023-03759 Filed 2-22-23; 8:45 am]

BILLING CODE 7020-02-P